DEPARTMENT OF STATE

[Public Notice 6095]

Announcement of Meetings of the International Telecommunication Advisory Committee

Summary: This notice announces a meeting of the International Telecommunication Advisory Committee (ITAC) to prepare advice on the World Telecommunication Standardization Assembly 2008 (WTSA 08).

The ITAC will meet to prepare advice for the U.S. on preparations for the World Telecommunication Standardization Assembly 2008 (WTSA 08) including positions on cybersecurity, study program restructuring, and leadership on Tuesday afternoon February 26, 2008 2-4 p.m. EST in the Washington, DC metro area. Meeting details and detailed agendas will be posted on the mailing list itac@eblist.state.gov. People desiring to participate on this list may apply to the secretariat at minardje@state.gov.

The meeting is open to the public.

Dated: February 4, 2008.
James G. Ennis,
International Communications & Information Policy, Department of State.

[FR Doc. E8-2654 Filed 2-12-08; 8:45 am]

BILLING CODE 4710-07-P